DEPARTMENT OF ENERGY

Federal Energy Regulatory Commission

[Project No. 2101-096]

Sacramento Municipal Utility District; Notice of Availability of Environmental Assessment

In accordance with the National Environmental Policy Act of 1969 and the Federal Energy Regulatory Commission's (Commission) regulations, 18 CFR part 380 (Order No. 486, 52 FR 47897), the Office of Energy Projects has reviewed the application for amendment to authorize the construction of the new Slab Creek powerhouse and boating flow release valve for the Upper American River Hydroelectric Project. The project is located on Silver Creek and the Rubicon and South Fork American Rivers in El Dorado and Sacramento counties, California. The project occupies federal lands administered by the Bureau of Land Management and by the U.S. Forest Service within the Eldorado National Forest.

The application, filed with the Commission on August 27, 2014, contains an Environmental Analysis in its Exhibit E (pages 49-143). On April 20, 2015, the licensee filed a supplemental biological resource analysis to its application. In staff's independent review of the licensee's Exhibit E and the April 20, 2015 supplement, staff has decided to adopt the licensee's Environmental Analysis and issue it as staff's Environmental Assessment (EA). The EA analyzes the potential environmental impacts of the project plus the proposed mitigation measures and concludes that granting the amendment to licensing would not constitute a major federal action that would significantly affect the quality of the human environment.

A copy of the EA and the supplemental biological resource analysis is on file with the Commission and is available for public inspection. The EA and supplement may be viewed on the Commission's Web site at http://www.ferc.gov using the “eLibrary” link. Enter the docket number, excluding the last three digits in the docket number field, to access the document. For assistance, contact FERC Online Support at FERCOnlineSupport@ferc.gov or toll-free at 1-866-208-3676, or for TTY, (202) 502-8659.

A copy of the EA may also be accessed using this link: http://elibrary.ferc.gov/IDMWS/common/opennat.asp?fileID=13623756.

A copy of the supplement may also be accessed using this link: http://elibrary.ferc.gov/IDMWS/common/opennat.asp?fileID=13844884.

You may also register online at http://www.ferc.gov/docs-filing/esubscription.asp to be notified via email of new filings and issuances related to this or other pending projects. For assistance, contact FERC Online Support.

All comments on the EA and supplement must be filed by May 29, 2015, and should reference Project No. 2101-096. The Commission strongly encourages electronic filing. Please file comments using the Commission's efiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Kimberly D. Bose, Secretary, Federal Energy Regulatory Commission, 888 First Street NE., Washington, DC 20426.

For further information, contact Rebecca Martin at (202) 502-6012 or Rebecca.Martin@ferc.gov.

Dated: April 29, 2015.
Kimberly D. Bose,
Secretary.

[FR Doc. 2015-10563 Filed 5-5-15; 8:45 am]

BILLING CODE 6717-01-P